DEPARTMENT OF COMMERCE

National Telecommunications and Information Administration

Agency Information Collection Activities; Submission for OMB Review; Comment Request; NTIA Space Launch Frequency Coordination Portal

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on October 1, 2025 during a 60-day comment period. This notice allows for an additional 30 days for public comments.

Agency: National Telecommunications and Information Administration (NTIA), Commerce.

Title: NTIA Space Launch Frequency Coordination Portal.

OMB Control Number: 0660-XXXX.

Form Number(s): None.

Type of Request: New information collection.

Number of Respondents: 15.

Average Hours per Response: 1.

Burden Hours: 1,000.

Needs and Uses: The information is submitted to a web-based platform and is used by NTIA to ensure that spectrum requested for Space launches is available. The data is used for analysis in determination of non-interference.

Affected Public: Applicants seeking to utilize spectrum in a commercial Space launch.

Frequency: Per application.

Respondent's Obligation: Mandatory.

Legal Authority: Executive Order 12046, 47 CFR part 300, 47 U.S.C. 902(b)(2).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary of Economic Affairs, Commerce Department.

[FR Doc. 2026-01563 Filed 1-26-26; 8:45 am]

BILLING CODE 3510-60-P